DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: 2020 Census—Program Updates.

The initial Federal Register Notice “2020 Census” (June 8, 2018, Vol. 83, Number 111, pp. 26643-26653, FR Doc. No.: 2018-12365) described the 2020 Census in full. Approval for the 2020 Census is being sought from OMB in phases. The first phase of approval was for the 2020 Census Address Canvassing operation only, which was described in Federal Register Notice “2020 Census,” October 2, 2018 (Vol. 83, No. 191, pp. 49535-49539, FR Doc. No.: 2018-21386). Address Canvassing creates the address list for the census and precedes census enumeration data collection. The remaining enumeration operations scoped for the 2020 Census data collection were described in Federal Register Notice “2020 Census,” February 13, 2019 (Vol. 84, No. 30, pp 3746-3757, FR Doc. No.: 2019-02223), which had an additional 30-day comment period. The Evaluations and Experiments Program was described in Federal Register Notice “2020 Census—Evaluations and Experiments,” September 9, 2019 (Vol. 84, No. 174, pp 47233-47239, FR Doc. No.: 2019-19312). This was an additional revision to the approved OMB materials.

There has been an additional change to the 2020 Census program since the prior Notice publication. In particular, the program change is the addition of Mobile Questionnaire Assistance, a component of internet Self-Response. This change will be described below. Other program updates are also described in this Notice. In particular, ongoing address frame activity is impacting the total number of housing units, which impacts the estimate of response burden.

OMB Control Number: 0607-1006.

Form Number(s): No additional forms for this revision.

Type of Request: Revision of a currently approved collection.

Number of Respondents: 195,747,754 to 2020 Census.

Average Hours Per Response: 10 minutes for census enumeration.

Burden Hours: 29,381,849 for 2020 Census.

This burden is higher than shown in prior Notices for multiple reasons. The list of living quarters has increased due to ongoing address file development. The Self-Response Quality Assurance estimate has been adjusted to use the upper-level estimate rather than the lower-level. In addition, estimates of the number of addresses that would be added to the Nonresponse Followup universe from late updating operations that were shown in prior Notices were planning estimates of the maximum number. At present the Census Bureau has actual counts of addresses submitted in all late address frame updating operations. The total of these addresses is less than the predicted maximum used in prior estimates. At the same time 2020 Census universe file updating is currently in progress. The counts shown in the table below reflect the number of addresses received through all operations assuming no duplication across sources. This results in an overestimate of this total number. Thus the expected workload for Nonresponse Followup is lower than that shown in previous Notices, and the final estimate could become still lower as file processing completes.

2020 Census
Operation or category | Estimated number of respondents | Estimated time per response (in minutes) | Total burden hours
Address Canvassing | 15,786,734 | 5 | 1,315,561
Address Canvassing Listing Quality Control | 1,578,673 | 5 | 131,556
Address Canvassing Subtotal | 17,365,407 |  | 1,447,117
Geographic Areas Focused on Self-Response (this includes Mailout and Update Leave):
Internet/Telephone/Paper | 90,060,785 | 10 | 15,010,131
Optimization of Self-Response Experiment | 118,541 | 10 | 19,757
Extending the Decennial Census Environment to the Mailing Materials | 172,992 | 10 | 28,832
Update Leave | 6,805,523 | 5 | 567,127
Update Leave Quality Control | 680,552 | 5 | 56,713
Nonresponse Followup | 62,474,993 | 10 | 10,412,499
Nonresponse Followup Reinterview | 3,123,750 | 5 | 260,313
Self-Response Quality Assurance | 750,000 | 10 | 125,000
Field Verification | 220,000 | 2 | 7,333
Field Verification Quality Control | 11,000 | 2 | 367
Coverage Improvement | 3,200,000 | 7 | 373,333
Non-ID Processing Phone Followup | 750,000 | 5 | 62,500
Self-Response Areas Subtotal | 168,368,136 |  | 26,923,905
Geographic Area Focused on Update Enumerate:
Update Enumerate Production | 35,000 | 12 | 7,000
Update Enumerate Listing Quality Control | 3,500 | 5 | 292
Update Enumerate Reinterview | 1,750 | 10 | 292
Update Enumerate Subtotal | 40,250 |  | 7,584
Group Quarters (GQ):
Domestic Violence Shelter address collection | 57 | 20 | 19
GQ Advance Contact (facility) | 297,000 | 10 | 49,500
GQ Enumeration—eResponse (facility) | 14,300 | 20 | 4,767
GQ Enumeration—person contact | 8,000,000 | 5 | 666,667
Service-Based Enumeration | 800,000 | 5 | 66,667
Group Quarters Quality Control | 8,500 | 5 | 708
Domestic Violence Shelter Enumeration | 0* |  | 0
Military Enumeration | 0* |  | 0
Maritime and Military Vessel Enumeration | 0* |  | 0
Group Quarters Subtotal | 9,119,857 |  | 788,328
Carnivals/Circuses address collection | 450 | 10 | 75
Hotels/Motels address collection | 55,000 | 10 | 9,167
Enumeration at Transitory Locations—Advance Contact | 50,000 | 10 | 8,333
Enumeration at Transitory Locations—Units | 600,000 | 10 | 100,000
Federally Affiliated Count Overseas | 82 | 5 | 7
Island Areas Censuses—Housing Units | 138,281 | 40 | 92,187
Island Areas Censuses—Group Quarters | 10,291 | 30 | 5,146
Totals | 195,747,754 |  | 29,381,849
* This burden is included in GQ enumeration—person contact.

Needs and Uses: Article 1, Section 2 of the United States Constitution mandates that the U.S. House of Representatives be reapportioned every ten years by conducting an enumeration of all residents. In addition to the reapportionment of the U.S. Congress, Census data are used to draw legislative district boundaries within states. Census data are also used by numerous agencies to determine funding allocations for the distribution of an estimated $675 billion of federal funds each year.

The taking of a decennial census is mandated by Article 1, Section 2 of the U.S. Constitution. Title 13, United States Code (U.S.C), Section 141 directs the Secretary to take a decennial census of population and housing, determining its form and content, and further authorizes the collection of such other census information in relation to the decennial census, as necessary. These authorities are delegated to the Director of the Census Bureau under Department of Commerce Organization Order 35-2A. The Census Bureau is required to conduct the 2020 Census to collect the person and housing data that will be used for reapportionment, redistricting, and various statistical data products, under Title 13, U.S. Code. Additionally, the Census Bureau is authorized under Title 13 Section 193 to conduct surveys and collect information before, during, and after the decennial census to assist in the conduct of the decennial census.

Type of Enumeration Areas

Prior to the census, it is necessary to delineate all geographic areas into Type of Enumeration Areas (TEAs), which describe what methodology will be used for census material delivery and household enumeration in order to use the most cost-effective enumeration approach for achieving maximum accuracy and completeness. TEAs also describe what methodology will be used for updating the address frame. For the United States and Puerto Rico, TEAs are delineated at the block level based on the address and spatial data in the Census Bureau's Master Address File (MAF)/Topologically Integrated Geographic Encoding and Referencing system (TIGER) database.

The TEAs designated for the 2020 Census are:

* TEA 1 = Self-Response.

* TEA 2 = Update Enumerate.

* TEA 3 = Island Areas.

* TEA 4 = Remote Alaska.

* TEA 6 = Update Leave.

The most common enumeration method by percentage of households is self-response (TEA 1), where materials will be delivered to each address through the mail and self-response will be supported and promoted. Self-response can occur when households mail back a 2020 Census paper questionnaire, submit the data on the 2020 Census internet questionnaire, or call the telephone number for Census Questionnaire Assistance and submit the data during the phone call. After the initial self-response phase, nonresponding households in TEA 1 will be enumerated in the Nonresponse Followup (NRFU) operation. In Update Enumerate (TEA 2), Census Bureau enumerators visit an address, update the address list, and attempt household enumeration at the same time. This TEA will be used for a very small portion of the addresses in the country, such as those with access problems or minimal mail service. The Island Areas (TEA 3) are not currently included in MAF/TIGER. With no existing address list for these areas, the address list will be created and enumeration will be attempted at the same time. Remote Alaska (TEA 4) uses the Update Enumerate methodology but in remote areas of Alaska. These areas have unique challenges associated with the accessibility to communities where the population ranges from several hundred people to just a few people. Communities are widely scattered and rarely linked by roads. Most are accessible only by small-engine airplane, snowmobile, four-wheel-drive vehicles, dogsled, or some combination thereof. This operation occurs earlier than other enumeration operations (starting in January) due to seasonal availability of the population, who disperse when warmer weather arrives. During Update Leave (TEA 6), Census Bureau staff visit an address, update the address list, and leave a questionnaire package at each individual housing unit. The household is expected to return the questionnaire or submit their data online or by telephone. Puerto Rico is designated as entirely Update Leave in order to create a current address list at the time of the census, in response to changes that may have occurred due to recent natural disasters. Nonresponding units in Update Leave areas are included in the NRFU workload.

The final TEA delineation includes updated counts of housing units resulting from Address Canvassing and other housing unit update operations. These updated counts change the burden table from prior publications and increase the total burden. A map of the areas designated for the various TEAs is shown at the embedded link: TEA Viewer

Mobile Questionnaire Assistance

The Census Bureau has recently added a Mobile Questionnaire Assistance component to the internet Self-Response operation. This component will create additional opportunities for the public to respond to the 2020 Census in key locations that are experiencing low response rates. The Mobile Response Initiative builds on and improves the model for the 2010 Census Questionnaire Assistance Centers. With the use of mobile technology, Mobile Questionnaire Assistance can be deployed in areas experiencing low response rates across the country, rather than in static locations. Respondents can receive assistance from trained staff, and they can answer the 2020 Census using Census Bureau iPads to access the internet Self-Response instrument.

Evaluations and Experiments

For the 2020 Census, the evaluations and experiments program has been described either as a revision to the 2020 Census package, as part of the Census Bureau's 2020 Census Post-Enumeration Survey Independent Listing Operation (covered under OMB approval #0607-1009), or within Generic Clearances for Census Bureau Field Tests and Evaluations (covered under OMB approval #0607-0971 and #0607-0978). There are a few updates to the 2020 Census evaluations and experiments program since the publication of the prior Federal Register Notice. The full program is described below.

For the 2020 Census, operational assessments, quality profiles, evaluations, and experiments are all produced within the Evaluations and Experiments operation. Operational Assessments are designed to document final volumes, rates, and costs for individual operations or processes using data from production files and activities and information collected from debriefings and lessons learned. They do not include analysis. Operational assessments report out on planned versus actual variances as they relate to budget, schedule, and workloads (production and training) and on meeting performance success criteria. Depending on the operation, they may include frequency distributions and standard demographic or address tables. Quality profiles are designed to provide the results from the quality assurance program for an operation. No additional data collection is required for the purpose of creating the operational assessments or the quality profiles. They are described here for the purpose of providing the complete scope of the Evaluations and Experiments operation.

The evaluations and experiments performed during a census represent the initial plans for updating and improving the subsequent census. While testing continues throughout the decade, certain aspects can only be tested within a decennial census environment, as public awareness of the census and of the responsibility to respond is often a key factor of the test. Evaluations are designed to analyze, interpret, and synthesize the effectiveness and efficiencies of census components and their impact on data quality and coverage using data collected from census operations, processes, systems, and auxiliary data collections. Experiments provide quantitative or qualitative results for tests that occur during a decennial census. Since they occur in an environment of optimal census awareness, results simulate more closely to what experimental treatments would yield in a full production application. Experiments inform planning of future decennial censuses, so 2020 Census experiments will focus on planning toward a 2030 Census.

The table below shows the full set of planned evaluation efforts. Two assessments, seven evaluations, and six synthesis reports have recently been added to the planned list. The new assessments are Count Review Operational Assessment, and internet Self-Response: Mobile Questionnaire Assistance Assessment. In addition some of the Post-Enumeration Survey assessments have been split into multiple assessments but will cover the same material. The new evaluations are: Evaluating the 2020 Census Communication Campaign: Census Mindset Measures Before and After the Campaign, 2020 Census Quantitative Testing, 2020 Census Tracking Survey, Investigating Digital Advertising and Online Self-Response, Matching 2019 Census Barrier, Attitudes, and Behaviors Study Survey Sample to 2020 Census, Comparing 2019 Census Test and 2020 Census Self-Respons Rates to Estimate “Decennial Environment,”and Evaluating the Effect of the Decennial Census on Self-Response to the American Community Survey. In addition, six synthesis reports have been added. A synthesis report integrates component reports on a particular topic. The topics of the synthesis reports are: The Integrated Partnership and Communications Program, Undercount of Young Children, Response Rates and Behavior Analysis, Interviewer Data Collection, Address List Development, Administrative Records. These are described briefly in the table below and in more detail in the study plans that are included with this package of materials.

For the purposes of fully defining the Evaluations and Experiments operation, specific assessments, evaluations, and experiments planned for the 2020 Census are documented in the table below. Some evaluations and experiments shown in italics are described within other OMB approval packages, as noted in the footnotes to the table.

2020 Census Operational Assessments:
Archiving Operational Assessment
Census Questionnaire Assistance Operational Assessment
Content and Forms Design Operational Assessment
Count Question Resolution Operational Assessment
Count Review Operational Assessment
Coverage Improvement Operational Assessment
Decennial Logistics Management—Logistics Management Support Operational Assessment
Decennial Logistics Management—Space Acquisition and Lease Management Operational Assessment
Decennial Service Center Operational Assessment
Demographic Analysis Operational Assessment
Enumeration at Transitory Locations Advance Contact Operational Assessment
Enumeration at Transitory Locations Operational Assessment
Evaluations and Experiments Operational Assessment
Federally Affiliated Count Overseas Operational Assessment
Field Infrastructure—Field Office Administration and Payroll Operational Assessment
Field Infrastructure—Recruiting, Onboarding, and Training Operational Assessment
Forms Printing and Distribution Operational Assessment
Geographic Partnership Programs Operational Assessment
Group Quarters Advance Contact Assessment Report
Group Quarters Enumeration and Military Enumerations Assessment
In-Field Address Canvassing Operational Assessment
In-Office Address Canvassing Operational Assessment
Integrated Partnership and Communications Contract Assessment
Integrated Partnership and Communications Operational Assessment
Research to Support the Integrated Partnership and Communications Program
Internet Self-Response Operational Assessment
Internet Self-Response: Mobile Questionnaire Assistance Assessment
Island Areas Censuses Operational Assessment
Item Nonresponse Rates Assessment Study
Language Services Operational Assessment
Local Update of Census Addresses Operational Assessment
Maritime Vessel Enumeration Report
New Construction Operational Assessment
Non-ID Operational Assessment
Nonresponse Followup Operational Assessment
Paper Data Capture Operational Assessment
Post-Enumeration Survey Sampling and Estimation Operational Assessment
Post-Enumeration Survey Field Operations Independent Listing Operational Assessment
Post-Enumeration Survey Field Operations Initial Housing Unit Followup Operational Assessment
Post-Enumeration Survey Field Operations Person Interview Operational Assessment
Post-Enumeration Survey Field Operations Person Followup Operational Assessment
Post-Enumeration Survey Field Operations Final Housing Unit Followup Operational Assessment
Post-Enumeration Survey Matching Initial Housing Unit Matching Operational Assessment
Post-Enumeration Survey Matching Person Matching Operational Assessment
Post-Enumeration Survey Matching Final Housing Unit Matching Operational Assessment
Redistricting Data Program Operational Assessment
Response Processing Operational Assessment
Response Rates Assessment Study
Self-Response Quality Assurance Operational Assessment
Service-Based Enumeration Assessment Report
Systems and Applications in the 2020 Census (Security, Privacy, and Confidentiality)
Update Enumerate Operational Assessment
Update Leave Operational Assessment
2020 Census Quality Control (QC):
Quality Control Study Plan for Listing Operations
Quality Control Study Plan for Enumeration Operations
Address Canvassing QC Results
Update Leave QC Results
Nonresponse Followup QC Results
Person Interview QC Results
Independent Listing QC Results

2020 Census evaluations and experiments | Additional data collected
Evaluations
Reengineered Address Canvassing • Estimate certain types of errors that can occur during In-Field Address Canvassing. Investigate effectiveness of In-Office Address Canvassing and Interactive Review. Compare costs of reengineered Address Canvassing to 100 percent In-Field Address Canvassing. • Evaluate In-Field Address Canvassing listers by including false addresses (salting) and suppressing a sample of valid addresses. • Evaluate In-Office and In-Field Address Canvassing using Post-Enumeration Survey listing results.¹ | Salted and suppressed addresses within Address Canvassing: same burden estimate because listers should delete incorrect addresses (which does not involve contact) and add missing addresses (which is the same burden as for valid addresses).
Administrative Record Dual-System Estimation Determine whether dual system estimates could be generated without conducting an independent post-enumeration survey, using Administrative Records. | None.
Evaluating Privacy and Confidentiality Concerns ² Capture respondents' concerns about privacy and confidentiality during the census, particularly with respect to the internet response option and administrative records use in a census environment. | NA.
The Undercount of Young Children: A Qualitative Evaluation of Census Materials and Operations 2, 3 Conduct focus groups and cognitive interviews to identify where existing roster questions and procedures are failing and how to improve them. | NA.
Research on Hard to Count Populations: Non-English Speakers and Complex Household Residents, including Undercount of Children Research ² Assess NRFU interviews in areas associated with potential undercoverage and non-English speaking households. In addition, administer a specialized enumerator training module to a sample of Spanish-speaking bilingual enumerators to evaluate its impact. | NA.
Analysis of Census Internet Self-Response Paradata by Language Examine 2020 Census web paradata and assess by language. | None.
Group Quarters Advance Contact: Refining Classification of College or University Student Housing ² Explore whether refined classification used in the 2020 Census results in more accurately identifying privately owned college housing. | NA.
Evaluating the 2020 Census Communications Campaign: Census Mindset Measures Before and After the Campaign ⁴ Gauge whether the portion of the population with mindsets less inclined to participate in the census shrank over the course of the campaign while the portion of the population with mindsets more inclined to participate grew larger. | Opinion data; multiple waves of collection.
2020 Census Quantitative Copy Testing ⁴ Test whether 2020 Census television and radio advertisements perform better than control ads that do not mention the 2020 Census on factors including message recall, message comprehension, ad likability and enjoyability, behavioral intention to respond to the census, and the Census Bureau's corporate image. | Awareness and comprehension data across multiple treatments.
2020 Census Tracking Survey ⁴ Track US public sentiment concerning matters that may bear upon 2020 Census participation to examine how attitudes and perceptions change during the census measurement period (mid-March through May 2020) | Opinion data; monthly then daily collections.
Investigating Digital Advertising and Online Self-Response Investigate the relationship between digital advertising materials and online self-response by analyzing ISR paradata. | None.
Matching 2018 Census Barriers, Attitudes, and Behaviors Study Survey Sample to 2020 Census Match the 2018 Census Barriers, Attitudes, and Motivators Study (CBAMS) survey sample addresses to 2020 Census addresses to evaluate (1) how well survey respondents' intended response behaviors align with actual response behaviors, (2) the characteristics of non-responding CBAMS households. | None.
Comparing 2019 Census Test and 2020 Census Self-Response Rates to Estimate “Decennial Environment” Matching 2019 Census Test data to 2020 Census data to compare self-response behavior with and without the decennial environment. | None.
Evaluating the Effect of the Decennial Census on Self-Response to the American Community Survey Assess of the impact of the decennial census communications campaign on garnering self-response from members of the public for the American Community Survey. Analyze the self-response trends for the American Community Survey to assess the extent to which the changes in the data collection environment during the decennial census affect other self-response data collection efforts undertaken by the Census Bureau. | None.
Experiments
Extending the Census Environment to the Mailing Materials Test effect on self-response rates of wearable, nonmonetary mailing inserts that promote the 2020 Census as well as mailing materials that incorporate elements and images developed by the 2020 Census communications campaign. In addition, test the use of an every door direct mail piece and comparing two different every door direct mail pieces for the effect on self-response rates. | None.
Optimization of Self-Response in the 2020 Census Experiment Evaluate impacts of the mailing strategy and the influence of the internet response option by (1) mailing a sample of housing units a modified version of 2010 Census materials with no promotion of the internet response option on a schedule that resembles what occurred during the 2010 Census, (2) mailing another sample of housing units a modified version of the 2020 Census materials with no promotion of the internet response option, (3) switching the planned mail contact strategy between internet choice and internet first for another sample of housing units. In addition, test the effectiveness of communications and partnership activities by not mailing and 2020 Census materials to a sample of households. | None.
Real-Time 2020 Census Administrative Record Census Simulation Compare person-level, housing unit-level, and hybrid approaches to conducting an administrative record census. | None.
Synthesis Reports
Integrated Partnership and Communications Evaluation Synthesis Report | None.
Undercount of Young Children | None.
Response Rates and Behavior Analysis | None.
Interviewer Data Collection | None.
Address List Development | None.
Administrative Records | None.
1. 2020 Census Post-Enumeration Survey Independent Listing Operation (OMB approval #0607-1009).
2. Generic Clearance for Census Bureau Field Tests and Evaluations (OMB approval #0607-0971).
3. Generic Clearance for Questionnaire Pretesting Research (OMB approval #0607-0725).
4. Generic Clearance for Testing (OMB approval #0607-0978).

Affected Public: Individuals or Households.

Frequency: Once every 10 years.

Respondent's Obligation: Mandatory.

Legal Authority: Title 13, United States Code, Section 141 and 193.

This information collection request may be viewed at www.reginfo.gov. Follow the instructions to view Department of Commerce collections currently under review by OMB.

Written comments and recommendations for the proposed information collection, identified by Docket number OMB-2018-0004, may be submitted to the Federal e-Rulemaking portal: https://www.regulations.gov within 30 days of publication of this notice. All comments received are part of the public record and will be posted to http://www.regulations.gov for public viewing. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

Sheleen Dumas,
Department PRA Clearance Officer, Office of the Chief Information Officer, Commerce Department.

[FR Doc. 2020-01945 Filed 1-31-20; 8:45 am]

BILLING CODE 3510-07-P